DEPARTMENT OF THE INTERIOR

Bureau of Land Management

[WY-920-1320-EL]

Powder River Regional Coal Team Activities: Notice of Public Meeting in Casper, WY

AGENCY: Bureau of Land Management, Interior.

ACTION: Notice of public meeting.

SUMMARY: The Powder River Regional Coal Team (RCT) has scheduled a public meeting for May 30, 2002, to review current and proposed activities in the Powder River Coal Region and to review pending coal lease applications (LBA).

DATES: The RCT meeting will begin at 9 a.m. MDT on May 30, 2002. The meeting is open to the public.

ADDRESSES: The meeting will be held at the Oil and Gas Conservation Commission Building, 777 West First Street, Casper, Wyoming 82602.

FOR FURTHER INFORMATION CONTACT: Bob Janssen, Regional Coal Coordinator, BLM Wyoming State Office, Division of Minerals and Lands, 5353 Yellowstone Road, Cheyenne, Wyoming 82009: telephone 307-775-6206.

SUPPLEMENTARY INFORMATION: The primary purpose of the meeting is to discuss pending coal lease by applications (LBA's) in the Powder River Basin. Specific applications for the RCT to consider include:

1. Mt. Logan LBA. This new LBA, filed by Cordero Mining Co., is for 7,247.01 acres with approximately 614.4 million tons of Federal coal. The RCT needs to consider the processing schedule for the Mt. Logan LBA.

2. West Extension-Eagle Butte LBA. This new LBA, filed by RAG Wyoming Land Co., is adjacent to the Eagle Butte Mine. Approximately 1656.62 acres and 200 million tons of Federal coal are involved. The RCT needs to consider the processing schedule for the West Extension-Eagle Butte LBA.

3. Big Thunder LBA. This new LBA, filed by Jacob's Ranch Coal Co. is adjacent to the Black Thunder and Jacob's Ranch mines. Approximately 5634.00 acres and 715.0 million tons of Federal coal are involved. This application overlaps the Little Thunder LBA which is presently being processed. The RCT needs to consider the processing schedule for the Big Thunder LBA and also the overlap with the Little Thunder LBA.

4. Any other LBAs filed before the May 30, 2002, meeting. The RCT may generate recommendation(s) for any or all of these topics.

The meeting will serve as a forum for public discussion on Federal coal management issues of concern in the Powder River Basin region. Any party interested in providing comments or data related to the above pending applications may either do so in writing to the State Director (925), BLM Wyoming State Office, P.O. Box 1828, Cheyenne, WY 82003, no later than May 15, 2002, or by addressing the RCT with his/her concerns at the meeting on May 30, 2002.

The draft agenda for the meeting follows:

1. Introduction of RCT Members and guests.

2. Approval of the Minutes of the October 25, 2000 Regional Coal Team meeting held in Cheyenne, Wyoming.

3. Coal activity since last RCT meeting.

4. Industry Presentations:

—Cordero Mining Co., Mt. Logan LBA

—RAG Wyoming Land Company, West Extension-Eagle Butte LBA

—Jacobs Ranch Coal Co., Big Thunder LBA

5. Other pending coal actions and other discussion items that may arise

6. RCT Recommendations

—Review and recommendation(s) on pending Lease Application(s).

7. Discussion of the next meeting.

8. Adjourn.

Dated: March 4, 2002.
Alan R. Pierson,
State Director, Wyoming BLM.

[FR Doc. 02-10472 Filed 4-26-02; 8:45 am]

BILLING CODE 4310-22-P